DEPARTMENT OF ENERGY

Notice of Early Public and Governmental Engagement for Potential Designation of Tribal Energy Access, Southwestern Grid Connector, and Lake Erie-Canada National Interest Electric Transmission Corridors; Reopening of Comment Period

AGENCY: Grid Deployment Office, Department of Energy.

ACTION: Notice of early public and governmental engagement and request for comment; reopening of public comment period.

SUMMARY: The Grid Deployment Office (GDO) of the Department of Energy (DOE) is seeking public input and comment from Federal and State agencies, regional entities, Tribal and local governments, the public, and other interested parties on DOE's consideration of three potential National Interest Electric Transmission Corridors (NIETCs). On December 16, 2024, DOE published a Notice of Early Public and Governmental Engagement (notice) inviting input and comment on the possible scope of analysis, including environmental, cultural, or socioeconomic effects should DOE designate any of the potential NIETCs, and the contents of DOE's engagement framework, including appropriate methods and locations of future NIETC-specific meetings. DOE also invited any other relevant feedback. The notice provided an opportunity for submitting written comments, data, and information to DOE no later than February 14, 2025. DOE received requests to extend the public comment period, and in response DOE is reopening the public comment period through April 15, 2025.

DATES: The comment period for the notice published on December 14, 2024 (89 FR 101597) which closed on February 14, 2025, is reopened. DOE will accept comments, data, and information regarding the notice that are received no later than April 15, 2025.

ADDRESSES: Interested parties are encouraged to submit comments using the Federal eRulemaking Portal at www.regulations.gov, under the relevant docket number(s). Alternatively, interested parties may submit comments, identified by relevant docket number(s), by any of the following methods:

• Email: NIETC@hq.doe.gov. Include the relevant docket number(s) in the subject line of the email.

• Mail: Address written comments to U.S. Department of Energy, Grid Deployment Office, 1000 Independence Ave. SW, Suite 4H-065, Washington, DC 20585.

Instructions: There are four docket numbers associated with this re-opening of Notice of Early Public and Governmental Engagement comment period. DOE encourages interested parties to submit general recommendations and comments under the docket number in which this notice has been posted, as well as recommendations and comments specific to the circumstances of individual potential NIETCs in the relevant dockets: DOE-HQ-2024-0088—Potential Designation of the Tribal Energy Access National Interest Electric Transmission Corridor; DOE-HQ-2024-0089—Potential Designation of the Southwestern Grid Connector National Interest Electric Transmission Corridor; DOE-HQ-2024-0090—Potential Designation of the Lake Erie-Canada National Interest Electric Transmission Corridor.

Docket: The dockets for this activity are available for review at www.regulations.gov. All documents in the dockets are listed in the www.regulations.gov index. However, not all documents listed in the index may be publicly available, such as information that is exempt from public disclosure. The docket web pages can be found at www.regulations.gov. The docket web pages contain instructions on how to access all documents, including public comments, in the dockets.

FOR FURTHER INFORMATION CONTACT: Christina Gomer, Senior Technical Advisor, by email at NIETC@hq.doe.gov or by telephone at (202) 586-2006.

SUPPLEMENTARY INFORMATION: On December 14, 2024, DOE published the notice in the Federal Register inviting input and comment from Federal and State agencies, regional entities, Tribal and local governments, the public, and other interested parties on DOE's consideration of three potential NIETCs (89 FR 101597). In that notice, DOE identified certain programmatic and engagement topics on which it seeks input. The notice set a comment period deadline of February 14, 2025.

In response to feedback received and requests to provide additional time to comment, DOE is reopening the public comment period until April 15, 2025. DOE anticipates that reopening the public comment period will enable additional stakeholders to submit valuable feedback in response to the notice.

Signing Authority

This document of the Department of Energy was signed on March 27, 2025, by Nick Elliot, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 28, 2025.
Treena V. Garrett,
Federal Register Liaison Officer, U.S. Department of Energy.

[FR Doc. 2025-05698 Filed 4-2-25; 8:45 am]

BILLING CODE 6450-01-P